DEPARTMENT OF AGRICULTURE

Forest Service

Information Collection; Valuation of Hemlock Decline on Public Forests in the Southern Appalachian Mountains

AGENCY: Forest Service, USDA.

ACTION: Notice; request for comment.

SUMMARY: In accordance with the Paperwork Reduction Act of 1995, the Forest Service is seeking comments from all interested individuals and organizations on the new information collection, Valuation of Hemlock Decline on Public Forests in the Southern Appalachian Mountains.

DATES: Comments must be received in writing on or before August 25, 2008 to be assured of consideration. Comments received after that date will be considered to the extent practicable.

ADDRESSES: Comments concerning this notice should be addressed to Thomas P. Holmes, Forestry Sciences Lab, Southern Research Station, USDA Forest Service, P.O. Box 12254, Research Triangle Park, NC 27709.

Comments also may be submitted via facsimile to (919) 549-4047 or by e-mail to: tholmes@fs.fed.us.

The public may inspect comments received at the Forestry Sciences Lab, 3041 Cornwallis Road, Research Triangle Park, NC 27709, main building reception area during normal business hours. Visitors are encouraged to call ahead to (919) 549-4000 to facilitate entry to the building.

FOR FURTHER INFORMATION CONTACT: Thomas P. Holmes, Southern Research Station, (919) 549-4031. Individuals who use telecommunication devices for the deaf (TDD) may call the Federal Relay Service (FRS) at 1-800-877-8339, 24 hours a day, every day of the year, including holidays.

SUPPLEMENTARY INFORMATION: Title: Valuation of Hemlock Decline on Public Forests in the Southern Appalachian Mountains.

OMB Number: 0596-New.

Type of Request: New.

Abstract: The Forest Service is seeking to determine the appropriate level of effort to take to protect hemlock forests on public land in the eastern United States from the hemlock woolly adelgid (HWA). The HWA is an exotic forest insect pest currently spreading across the eastern United States and threatens the widespread decline of hemlock forests. This insect has no known effective native predators; eastern and Carolina hemlocks have shown no resistance to HWA; and hemlock forests have not shown any recovery following heavy, chronic infestations. While public forest managers have alternative protection measures available, implementation of these protection measures is costly and the economic benefits of protecting hemlock health are largely unknown.

Eastern hemlock forests provide a suite of public and private goods that have economic value, including wildlife habitat, aesthetic landscapes, and commercial timber. In addition, hemlock forests located on public land provide unique natural settings for recreational activities, provide habitat for many species of wildlife, and help prevent soil erosion along the banks of streams and rivers. As the impacts of this invasion accrue, forest managers' demand for information increases.

Forest Service and university researchers will collect and analyze information regarding the value of the ecosystem services provided by hemlock forests located on public land in the Southern Appalachian Mountains from residents living within 500 miles of Asheville, North Carolina. The data and analyses will provide guidance to public forest managers regarding the value of ecosystem services supplied by hemlock forests on the land that they manage and the level of public support for alternative hemlock forest-protection programs.

Telephone interviewers will contact individual head-of-households via random digit dialing. Those agreeing to participate will receive a questionnaire via the United States Postal Service, along with a cover letter describing the purpose of the study, information about current hemlock forest conditions in Southern Appalachian Mountain public forests, and available protection alternatives. Approximately two weeks after receiving the questionnaire, respondents will share answers via telephone interview.

Estimate of Annual Burden: 45 minutes.

Type of Respondents: Individuals, heads of households.

Estimated Annual Number of Respondents: 500.

Estimated Annual Number of Responses per Respondent: 1.

Estimated Total Annual Burden on Respondents: 375 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: June 23, 2008.
David A. Cleaves,
Associate Deputy Chief, Research and Development.

[FR Doc. E8-14552 Filed 6-25-08; 8:45 am]

BILLING CODE 3410-11-P